DEPARTMENT OF THE TREASURY

Submission for OMB Review; Comment Request

August 3, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 13, 2000 to be assured of consideration.

U.S. Customs Service (CUS)

OMB Number: 1515-0053.

Form Number: Customs Form 3299.

Type of Review: Extension.

Title: Declaration for Free Entry of Unaccompanied Articles.

Description: The Declaration for Free Entry of Unaccompanied Articles, Customs Form 3299, is prepared by the individual or the broker acting as agent for the individual, or in some cases, the Customs Officer. It serves as a declaration of duty-free entry of merchandise under one of the applicable provisions of the tariff schedule.

Respondents: Business or other for-profit, Individuals or households, Not-for-profit institutions.

Estimated Number of Respondents: 10,000.

Estimated Burden Hours Per Respondent: 10 minutes.

Frequency of Response: On occasion.

Estimated Total Reporting Burden: 25,000 hours.

OMB Number: 515-0183.

Form Number: None.

Type of Review: Extension.

Title: Centralized Examination Station.

Description: A port director decides when their port needs one or more Centralized Examination Stations (CES). They announce this need and solicits applications to operate a CES. The information contained in the application will be used to determine the suitability of the applicant's facility, the fairness of his fee structure, his knowledge of cargo handling operations and his knowledge of Customs procedures.

Respondents: Business or other for-profit, Not-for-profit institutions.

Estimated Number of Respondents: 50.

Estimated Burden Hours Per Respondent: 2 hours.

Frequency of Response: On occasion.

Estimated Total Reporting Burden: 100 hours.

Clearance Officer: J. Edgar Nichols, (202) 927-1426, U.S. Customs Service, Information Services Branch, Ronald Reagan Building, 1300 Pennsylvania Avenue, N.W., Room 3.2.C, Washington, DC 20229.

OMB Reviewer: Alexander T. Hunt, (202) 395-7860, Office of Management and Budget, Room 10202, New Executive Office Building, Washington, DC 20503.

Mary A. Able,
Departmental Reports Management Officer.

[FR Doc. 00-20553 Filed 8-11-00; 8:45 am]

BILLING CODE 4820-02-P